NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: July 20, 2021; 11:45 a.m. to 5:00 p.m.

Place: NSF, 2415 Eisenhower Avenue, Alexandria, VA 22314 (Virtual attendance only).

To attend the virtual meeting, please send your request for the virtual meeting link to Kathleen McCloud at the following email address: kmccloud@nsf.gov.

Type of Meeting: Open.

Contact Person: Leighann Martin, National Science Foundation, 2415 Eisenhower Avenue, Room C 9000, Alexandria, Virginia 22314; Telephone: 703/292-4659.

Summary of Minutes: Minutes and meeting materials will be available on the MPS Advisory Committee website at http://www.nsf.gov/mps/advisory.jsp or can be obtained from the contact person listed above.

Purpose of Meeting: To provide advice, recommendations and counsel on major goals and policies pertaining to MPS programs and activities.

Agenda

Tuesday, July 20, 2021

• Call to Order and Official Opening of the Meeting

• FACA and COI Briefing

• Approval of Prior Meeting Minutes—Catherine Hunt, MPSAC Chair

• MPS Update by Assistant Director

• AC Member Introductions

• Science Highlight

• Translation, Innovation and Partnership—Erwin Gianchandani, NSF Office of the Director

• Update on MPS AC Facilities Subcommittee

• NSF Strategic Plan: Thoughts from the AC

• Discussion of MPSAC Facilities Subcommittee

• Preparation for discussion with NSF Director and COO

• Meeting and discussion with NSF Director and COO

• Discussion of Environmental Research and Education (ERE)

• Discussion of MPS AC Award Subcommittee

• Agency Priorities and Budget Update—Caitlyn Fife, Budget Division

• Closing remarks and adjourn

Dated: June 21, 2021.
Crystal Robinson,
Committee Management Officer.

[FR Doc. 2021-13331 Filed 6-23-21; 8:45 am]

BILLING CODE 7555-01-P